DEPARTMENT OF LABOR

Employment and Training Administration

[TA-W-60,052]

Labrie Equipment; Leach Company, Incorporated; Appleton, WI; Notice of Termination of Investigation

Pursuant to Section 221 of the Trade Act of 1974, an investigation was initiated on September 11, 2006 in response to a petition filed by a company official on behalf of workers at Labrie Equipment, Leach Company, Incorporated, Appleton, Wisconsin.

The petitioner has requested that the petition be withdrawn. Consequently, the investigation has been terminated.

Signed in Washington, DC, this 14th day of September 2006.
Elliott S. Kushner,
Certifying Officer, Division of Trade Adjustment Assistance.

[FR Doc. E6-15748 Filed 9-25-06; 8:45 am]

BILLING CODE 4510-30-P